DEPARTMENT OF ENERGY

Federal Energy Regulatory Commission

Notice of Amendment of License and Soliciting Comments, Motions To Intervene, and Protests

July 31, 2001.

Take notice that the following hydroelectric application has been filed with the Commission and is available for public inspection:

a. Application Type: Temporary Amendment to License.

b. Project No.: 2833-082.

c. Date Filed: July 23, 2001.

d. Applicant: Lewis County Public Utility District.

e. Name of Project: Cowlitz Falls.

f. Location: The Cowlitz Falls hydroelectric project is located on the Cowlitz River in Lewis County, Washington, immediately upstream of the City of Tacoma's licensed Cowlitz River Project No. 2016. No federal lands would be affected.

g. Filed Pursuant to: Federal Power Act, 16 U.S.C. 791(a)-825(r).

h. Applicant Contact: Mr. Steven Grega, Lewis County Public Utility District, 321 N.W. Pacific Avenue, P.O. Box 330, Chehalis, WA 98532-0330; (360) 740-2453.

i. FERC Contact: Questions about this notice can be answered by Kenneth Hogan at (202) 208-0434 or e-mail address: Kenneth.Hogan@ferc.fed.us. The Commission cannot accept comments, recommendations, motions to intervene or protests sent by e-mail; these documents must be filed as described below.

j. Deadline for filing comments, terms and conditions, motions to intervene, and protests: 15 days from the issuance date of this notice.

All documents (original and eight copies) should be filed with: David P. Boergers, Secretary, Federal Energy Regulatory Commission, 888 First Street, NE, Washington, DC 20426. Comments, recommendations, terms and conditions, protests and interventions may be filed electronically via the internet in lieu of paper. See 18 CFR 385.2001(a)(1)(iii) and the instructions on the Commission's web site at: http://www.ferc.gov.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. The Lewis County Public Utility District (District) filed an application to temporarily modify the instream flow requirement of the Cowlitz Falls Project No. 2833, set forth in Article 46 for a period of two years. The District proposes to reduce instream flow to 250 cubic feet per second (cfs), (fish facility outflow + turbine and dam leakage + Tumwater Creek), when natural inflow to the Cowlitz Falls reservoir is below the turbine minimum flow requirements of 1,700-cfs. The District states that such a reduction will improve fish collection efficiency at the Cowlitz Falls Project and optimize generation. Article 46 reads as follows:

Article 46: The licensee shall operate the Cowlitz Falls Project in a run-of-river mode. Daily variations in the water surface elevation of the reservoir shall not exceed two feet under normal operating conditions. During periods when Project No. 2016's Riffe Reservoir, located immediately downstream, is drawndown below elevation 750 feet mean sea level, the flow below the Cowlitz Falls Dam shall be maintained at a minimum of 1,000 cfs or inflow to the Cowlitz Falls Project reservoir, whichever is less. Run-of-river operation may be temporarily modified if required by operating emergencies beyond the control of the licensee, and for short periods upon mutual agreement between the licensee and the Washington State Department of Fisheries and Department of Game.

The District, with the cooperation of the Washington Department of Fish and Wildlife (WDFW), the National Marine Fisheries Service (NMFS), and the U.S. Fish and Wildlife Service (FWS), on April 25, 2001, conducted a reduced instream flow test to evaluate the effects on the fishery and other resources in the downstream reach below the Cowlitz Falls Project. The District's amendment request is based on that study. The District request that this amendment be in effect for a two year period, to further evaluate the effects of the modified operations. Upon evaluation of those effects, the District may apply for a license amendment permanently modifying license Article 46. The District expects to receive the approval of the WDFW with the concurrence of the NMFS and the FWS on the amendment.

l. A copy of the application is available for inspection and reproduction at the Commission's Public Reference Room at 888 First Street NE, Room 2A, Washington, DC 20426, or by calling (202) 208-1371. The application may be viewed on the web at http://www.ferc.gov. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-19533 Filed 8-2-01; 8:45 am]

BILLING CODE 6717-01-P